DEPARTMENT OF THE INTERIOR

Bureau of Land Management

[BLM_WY_FRN_MO4500177404]

Notice of Intent To Prepare an Environmental Impact Statement for the Proposed Jackalope Wind Energy Project, Sweetwater County, Wyoming

AGENCY: Bureau of Land Management, Interior.

ACTION: Notice of intent.

SUMMARY: In compliance with the National Environmental Policy Act of 1969, as amended (NEPA), and the Federal Land Policy and Management Act of 1976, as amended (FLPMA), the Bureau of Land Management (BLM) Rock Springs Field Office, Sweetwater County, Wyoming intends to prepare an Environmental Impact Statement (EIS) to consider the effects of the proposed Jackalope Wind Energy Project and by this notice is announcing the beginning of the scoping process to solicit public comments and identify issues.

DATES: This notice initiates the public scoping process for the EIS. The BLM requests that the public submit comments concerning the scope of the analysis, potential alternatives, and identification of relevant information and studies by 30 days after the date of publication of this notice in the Federal Register. To afford the BLM the opportunity to consider comments in the Draft EIS, please ensure your comments are received prior to the close of the 30-day scoping period or 15 days after the last public meeting, whichever is later.

ADDRESSES: You may submit comments related to the Jackalope Wind Energy Project by any of the following methods:

• Website: https://eplanning.blm.gov/eplanning-ui/project/2026735/510.

• Mail: BLM Rock Springs Field Office, Attn: Jackalope Wind Energy Project Team, 280 Highway 191 North, Rock Springs, WY 82901-3447.

Documents pertinent to this proposal may be examined online at https://eplanning.blm.gov/eplanning-ui/project/2026735/510 and at the BLM Rock Springs Field Office.

FOR FURTHER INFORMATION CONTACT: Kimberlee Foster, the BLM Rock Springs Field Office Manager, telephone (307) 352-0201; address 280 US-191 N, Rock Springs, WY 82901; email kfoster@blm.gov. Contact Ms. Foster to have your name added to our mailing list. Individuals in the United States who are deaf, deafblind, hard of hearing, or have a speech disability may dial 711 (TTY, TDD, or Tele Braille) to access telecommunications relay services for contacting Ms. Foster. Individuals outside the United States should use the relay services offered within their country to make international calls to the point-of-contact in the United States.

SUPPLEMENTARY INFORMATION: Jackalope Wind, LLC, a wholly owned indirect subsidiary of NextEra Energy Resources, LLC, is proposing to develop the Jackalope Wind Energy Project, a commercial wind energy project in Sweetwater County, Wyoming, on lands managed by the BLM, the Wyoming Office of State Lands and Investment, and private landowners. The proposed project includes approximately 213 wind turbine generators and associated infrastructure to deliver approximately 600 megawatts (MW) of electricity to the transmission grid. The point of interconnection would be the Jim Bridger Substation, which is located adjacent to the Jim Bridger Power Plant near Point of Rocks, Wyoming. The project area encompasses approximately 293,100 acres of land, approximately 166,100 acres of which are public lands managed by the BLM. The majority of the project is located within the BLM Rock Springs Field Office, and a portion of the project is within the Rawlins Field Office. The Rock Springs Field Office will serve as the lead office and will coordinate with the Rawlins Field Office as appropriate during the NEPA process.

Purpose and Need: The BLM's purpose is to respond to Jackalope Wind, LLC application for a right-of-way (ROW) grant to construct, operate, maintain, and decommission a wind energy facility on public lands in compliance with FLPMA, BLM ROW regulations, and other applicable federal laws and policies. The need for this action arises from FLPMA, which requires the BLM to manage public lands for multiple use and sustained yield and authorizes the BLM to issue ROW grants on public lands for systems of generation, transmission, and distribution of electric energy (FLPMA Title V). The BLM will review the proposed action and other alternatives and decide whether to approve, approve with modifications, or deny Jackalope Wind LLC's application. The BLM's ROW grant for the project would include any terms, conditions, and stipulations it determines to be in the public interest.

Preliminary Proposed Action and Alternatives: Jackalope Wind, LLC, has submitted a plan of development to accompany a Type III ROW grant application to the BLM Rock Springs Field Office. As currently proposed, the project would comprise approximately 213 wind turbine generators and associated infrastructure to deliver approximately 600 MW of electricity to the transmission grid. The project would be constructed in two phases, with each phase totaling approximately 300 MW.

The BLM Rock Springs Field Office has identified the following preliminary considerations for the development of alternatives:

• Input from cooperators and other stakeholders;

• Input from the public scoping process;

• Potential resource concerns;

• Alternative gen-tie line and interconnection options; and

• Alternative turbine layouts.

The BLM welcomes comments on all preliminary alternatives as well as suggestions for additional alternatives.

Summary of Expected Impacts

Preliminary issues, either beneficial or adverse and of varying intensity, for the project have been identified by BLM personnel and in consultation with Federal, State, and local agencies, Tribes, and other Cooperating Agencies. These preliminary issues include:

• Wildlife, including big game;

• Special status wildlife and fish species, including BLM Sensitive Species and Threatened and Endangered Species;

• Cultural resources and historic trails;

• Visual resources;

• Recreation;

• Impacts to surface resources from project-related surface disturbance; and

• Greater Sage-grouse. The State of Wyoming has proposed expansion of the State's Core Area for Sage-grouse in a portion of the project area. This may cause some turbine locations to be relocated within the project area.

The public scoping process will guide the NEPA process in determining relevant issues that will influence the scope of the environmental analysis, including alternatives and mitigation measures. The EIS will identify and describe the effects of the proposed action on the human environment. The BLM also requests the identification of potential impacts that should be analyzed. Impacts should be a result of the action; therefore, please identify the activity along with the potential impact. Information that reviewers have that would assist in the development of alternatives or analysis of resources issues is also helpful.

Anticipated Permits and Authorizations

In addition to the requested right-of-way grant, other Federal, State, and local authorizations will be required for the project. These include authorizations under the Bald and Golden Eagle Act, the Endangered Species Act, Clean Water Act, 14 Code of Federal Regulations part 77, and other laws and regulations determined to be applicable to the project.

Schedule for the Decision-Making Process

The BLM will provide additional opportunities for public participation consistent with the NEPA process, including a 45-day comment period on the Draft EIS. The Draft EIS is anticipated to be available for public review between Winter 2024 and early Spring 2025 and the Final EIS is anticipated to be released in Summer 2025 with a Record of Decision in Summer 2025.

Public Scoping Process

This notice of intent initiates the scoping period.

The BLM will hold two public scoping meetings in the following locations: Rock Springs and Rawlins, WY. The specific date(s) and location(s) of these scoping meetings will be announced in advance through local media, social media and the ePlanning project page (see ADDRESSES).

Lead and Cooperating Agencies

The BLM Rock Springs Field Office is the lead office for the NEPA effort. The BLM Rock Spring Field Office has invited the following agencies to participate as cooperating agencies:

Federal: U.S. Bureau of Reclamation, U.S. Department of Energy, U.S. EPA Region 8, U.S. EPA Region 9, U.S. Fish and Wildlife Services, USDA Forest Service, U.S. National Park Service.

State: State of Wyoming Office of Governor Gordan, Office of Senator Cynthia Lummis, Office of Senator John Barrasso, Wyoming County Commissioners Association, WY Department of Agriculture, WY Department of Environmental Quality, WY Game & Fish, WY Geological Survey.

Local: Advisory Council on Historic Preservation, Carbon County, Sweetwater County.

Responsible Official

The BLM Wyoming's High Desert District Manager, Jason Gay, is the responsible official who will make the decisions below.

Nature of Decision To Be Made

The Bureau of Land Management will use the analysis in the EIS to inform the following: whether to grant, grant with conditions, or deny the application for a right-of-way. Pursuant to 43 Code of Federal Regulations (CFR) 2805.10, if the BLM issues a grant, the decision may include terms, conditions, and stipulations determined to be in the public interest.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The BLM will utilize and coordinate the NEPA process to help support compliance with applicable procedural requirements under the Endangered Species Act (16 U.S.C. 1536) and section 106 of the National Historic Preservation Act (54 U.S.C. 306108) as provided in 36 CFR 800.2(d)(3), including public involvement requirements of Section 106. The information about historic and cultural resources and threatened and endangered species within the area potentially affected by the proposed project will assist the BLM in identifying and evaluating impacts to such resources.

The BLM will consult with Indian Tribal Nations including the Eastern Shoshone Tribe of the Wind River Reservation, Northern Arapaho Tribe, the Ute Indian Tribe of Uintah and Ouray Reservation, Shoshone-Bannock Tribes of the Fort Hall Reservations, and Northern Cheyenne Tribal Council on a government-to-government basis in accordance with Executive Order 13175, BLM Manual Section 1780, and other Departmental policies. Tribal concerns, including impacts on Indian trust assets and potential impacts to cultural resources, will be given due consideration. Federal, State, and local agencies, along with Indian Tribal Nations and other stakeholders that may be interested in or affected by the proposed project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Andrew S. Archuleta,
State Director.

[FR Doc. 2024-05618 Filed 3-15-24; 8:45 am]

BILLING CODE 4331-26-P